DEPARTMENT OF AGRICULTURE

Agricultural Research Service

Notice of Intent to Renew Information Collection, Correction

AGENCY: Agricultural Research Service, USDA.

ACTION: Notice and request for comment.

SUMMARY: The U.S. Department of Agriculture (USDA) seeks comments on the intent of the USNA to renew an information collection that expires August 31, 2018. The information collection serves as a means to collect for certain use of the facilities, grounds, programs and services. This includes fees for educational programs and workshops and for use of the grounds and facilities, as well as for commercial photography and cinematography. Fees generated will be used to defray USNA expenses or to promote the missions of the USNA.

DATES: Comments on this notice must be received by June 1, 2018 to be assured of consideration.

ADDRESSES: You may submit comments by any of the following methods:

• Email: richard.olsen@ars.usda.gov.

• Fax: 202-245-4514.

• Mail: Director, U.S. National Arboretum, Northeast Area, Agricultural Research Service, 3501 New York Avenue NE, Washington, DC 20002.

• Hand Delivery/Courier: Director, U.S. National Arboretum, Northeast Area, Agricultural Research Service, 3501 New York Avenue NE, Washington, DC 20002.

Correction

In the Federal Register of April 2, 2018, FR Doc. No. 63, page 13943, on page three, paras 5, 6, and 7 of the Supplement Information should read as follows:

Estimate of Burden: 151 hours.

Estimated Number of Responses: The USNA estimates 250 requests for the use of the facilities, 52 for photography and cinematography, and 1,800 educational programs and workshops registrations on an annual basis.

Estimate of Total Annual Burden on Respondents: The total cost for responding is $5,422.41, for 151 hours of time at $35.91 per hour.

Dated: April 24, 2018.
Simon Y. Liu,
Associate Administrator, ARS.

[FR Doc. 2018-10196 Filed 5-11-18; 8:45 am]

BILLING CODE P